SMALL BUSINESS ADMINISTRATION

[Disaster Declaration #10893]

Nebraska Disaster #NE-00013

AGENCY: U.S. Small Business Administration.

ACTION: Notice.

SUMMARY: This is a Notice of the Presidential declaration of a major disaster for Public Assistance Only for the State of Nebraska (FEMA-1706-DR), dated 06/06/2007.

Incident: Severe Storms, Flooding, and Tornadoes.

Incident Period: 05/04/2007 through 05/19/2007.

Effective Date: 06/06/2007.

Physical Loan Application Deadline Date: 08/06/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 06/06/2007, Private Non-Profit organizations that provide essential services of a governmental nature may file disaster loan applications at the address listed above or other locally announced locations.

The following areas have been determined to be adversely affected by the disaster:

Primary Counties:

Blaine, Brown, Cass, Custer, Gage, Garfield, Jefferson, Johnson, Keya Paha, Knox, Loup, Nemaha, Otoe, Pawnee, Richardson, Saline, Saunders, Wheeler.

The Interest Rates are:

| Percent
Other (Including Non-Profit Organizations) with Credit Available Elsewhere | 5.250
Businesses and Non-Profit Organizations without Credit Available Elsewhere | 4.000

The number assigned to this disaster for physical damage is 10893.

(Catalog of Federal Domestic Assistance Number 59008)

Jane M. Pease,
Acting Associate Administrator for Disaster Assistance.

[FR Doc. E7-11705 Filed 6-15-07; 8:45 am]

BILLING CODE 8025-01-P